DEPARTMENT OF DEFENSE

Department of the Navy

Notice of Intent To Grant Exclusive Patent License; DynCorp Technical Services, LLC, A CSC Company

AGENCY: Department of the Navy, DOD.

ACTION: Notice.

SUMMARY: The Department of the Navy gives notice of its intent to grant to DynCorp Technical Services, LLC, A CSC Company, a revocable, non-assignable, exclusive license to practice the Government-owned inventions, as defined in U.S. Patent Number 6,249,241 entitled “Marine Vessel Traffic System”, Navy Case No. 76518, Inventors Jordan et al, Issue Date 19 June 2001, in the field of port and waterways surveillance and security systems.

DATES: Anyone wishing to object to the granting of this license must file written objections along with supporting evidence, if any, not later than fifteen (15) days after date of publication in the Federal Register.

ADDRESSES: Written objections are to be filed with Naval Air Warfare Center Aircraft Division, Business Development Office, Office of Research and Technology Applications, Building 304, Room 107, 22541 Millstone Road, Patuxent River, MD 20670.

FOR FURTHER INFORMATION CONTACT: Mr. Paul Fritz, Naval Air Warfare Center Aircraft Division, Business Development Office, Office of Research and Technology Applications, Building 304, Room 107, 22541 Millstone Road, Patuxent River, MD 20670, telephone (301) 342-5586, fax (301) 342-1134, or E-Mail: paul.fritz@navy.mil.

(Authority: 35 U.S.C. 207, 37 CFR Part 404.)

Dated: February 5, 2004.
J.T. Baltimore,
Lieutenant Commander, Judge Advocate General's Corps, U.S. Navy, Alternate Federal Register Liaison Officer.

[FR Doc. 04-3373 Filed 2-13-04; 8:45 am]

BILLING CODE 3810-FF-P